DEPARTMENT OF HOMELAND SECURITY

Coast Guard

33 CFR Part 165

[Docket No. USCG-2017-0679]

Safety Zone; North Atlantic Ocean, Ocean City, NJ

AGENCY: Coast Guard, DHS.

ACTION: Notice of enforcement of regulation; change of enforcement date.

SUMMARY: On August 7, 2017, the Coast Guard provided notice in the Federal Register that the agency would enforce the North Atlantic Ocean, Ocean City, NJ, safety zone from 9:00 p.m. through 11:59 p.m. on October 10, 2017. The purpose of this document is to announce a change in the enforcement date. The zone will be enforced on October 7, 2017, instead of October 10, 2017.

DATES: The regulations in 33 CFR 165.506 will be enforced from 9 p.m. to 11:59 p.m. on October 7, 2017, for the safety zone listed as (a.)11 in the Table to § 165.506.

FOR FURTHER INFORMATION CONTACT: If you have questions about this notice of enforcement, you may call or email MST2 Amanda Boone, Sector Delaware Bay Waterways Management Division, U.S. Coast Guard; telephone 215-271-4889, email Amanda.N.Boone@USCG.mil.

SUPPLEMENTARY INFORMATION: Please refer to the notice of enforcement published in the Federal Register on August 7, 2017 (82 FR 36688), FR Doc. 2017-16506.

Dated: September 22, 2017.
Scott E. Anderson,
Captain, U.S. Coast Guard, Captain of the Port Delaware Bay.

[FR Doc. 2017-20900 Filed 9-28-17; 8:45 am]

BILLING CODE 9110-04-P